DEPARTMENT OF DEFENSE

Department of the Army

Performance Review Board Membership

AGENCY: Department of the Army, DoD.

ACTION: Notice.

SUMMARY: Notice is given of the names of members of a Performance Review Board for the Department of the Army.

DATES: Effective Date: October 26, 2018.

FOR FURTHER INFORMATION CONTACT: Barbara Smith, Civilian Senior Leader Management Office, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Delia A. Adams, Senior Contracting Executive, U.S. Army Installation Management Command, San Antonio, TX.

2. Ms. Lisha H. Adams, Executive Deputy to the Commanding General, U.S. Army Materiel Command, Redstone Arsenal, AL.

3. Mr. Stephen D. Austin, Assistant Chief of the Army Reserve, Office of the Chief Army Reserve, Washington, DC.

4. Mr. Mark F. Averill, Deputy Administrative Assistant to the Secretary of the Army/Director Resources & Program Agency, Office of the Administrative Assistant, Washington, DC.

5. Mr. Stephen G. Barth, Deputy Assistant Secretary of the Army (Cost And Economics), Office of the Assistant Secretary of the Army (Financial Management & Comptroller), Washington, DC.

6. LTG Scott D. Berrier, Deputy Chief of Staff, Office of the Deputy Chief of Staff G-2, Washington, DC.

7. LTG Gwendolyn Bingham, Assistant Chief of Staff for Installation Management, Office of the Assistant Chief of Staff, Installation Management, Washington, DC.

8. Ms. Carla Kay Coulson, Director, Installation Services, Assistant Chief of Staff for Installation Management, Washington, DC.

9. LTG Bruce T. Crawford, Chief Information Officer/G-6, Office of the Chief Information Officer/G-6, Washington, DC.

10. LTG Edward M. Daly, Deputy Commanding General/Chief of Staff, U.S. Army Materiel Command, Redstone Arsenal, AL.

11. Mr. John J. Daniels, Deputy Assistant Secretary for Plans, Programs and Resources, Office of the Assistant Secretary of the Army (Acquisition, Logistics & Technology), Washington, DC.

12. Ms. Karen L. Durhamaguilera, Executive Director of the Army National Cemeteries Program, Office of the Secretary of the Army, Arlington, VA.

13. Ms. Monique Y. Ferrell, Principal Deputy Auditor General, U.S. Army Audit Agency, Fort Belvoir, VA.

14. Mr. Gregory L. Garcia, Deputy Chief Information Officer, Office of the Chief Information Officer/G-6, Washington, DC.

15. Mr. Larry D. Gottardi, Director, Civilian Senior Leader Management Office, Office of the Deputy Under Secretary, Washington, DC.

16. Ms. Patricia A. Guitard, Special Advisor for Open Source Intelligence, U.S. Army Intelligence Security Command, Fort Belvoir, VA.

17. Mr. John E. Hall, Deputy to the Commanding General, U.S. Army Combined Arms Support Command, Fort Lee, VA.

18. Mr. Stuart A. Hazlett, Deputy Assistant Secretary of the Army (Procurement), Office of the Assistant Secretary of the Army (Acquisition, Logistics & Technology), Washington, DC.

19. Dr. David A. Horner, Director, Information Technology Laboratory, U.S. Army Engineer Research and Development Center, Vicksburg, MS.

20. HON R. D. James, Assistant Secretary of the Army (Civil Works), Office of the Assistant Secretary of the Army (Civil Works), Washington, DC.

21. HON Bruce D. Jette, Assistant Secretary of the Army (Acquisition, Logistics & Technology), Office of the Assistant Secretary of the Army (Acquisition, Logistics & Technology), Washington, DC.

22. Dr. Marti Jett-Tilton, Senior Research Scientist (Systems Biology), U.S. Army Medical Command, Fort Detrick, MD.

23. Mr. Thomas E. Kelly III, Deputy Under Secretary of the Army, Office of the Deputy Under Secretary, Washington, DC.

24. Ms. Krystyna M.A. Kolesar, Deputy Director, Program Analysis & Evaluation Directorate, Office of the Deputy Chief Of Staff, G-8, Washington, DC.

25. Mr. Jeffrey L. Langhout, Director for Systems Simulation, Software, and Integration, U.S. Army Research, Development, and Engineering Command, Redstone, AL.

26. Mr. Mark R. Lewis, Special Assistant to the Administrative Assistant to the Secretary of the Army, Office of the Secretary of the Army, Washington, DC.

27. Dr. George V. Ludwig, Principal Assistant for Research and Technology, U.S. Army Medical Command, Fort Detrick, MD.

28. Dr. David Markowitz, Assistant Deputy Chief of Staff for Programs, G-8, Office of the Deputy Chief of Staff, G-8, Washington, DC.

29. LTG Joseph M. Martin, Director of the Army Staff, Office of the Director of the Army Staff, Washington, DC.

30. LTG Theodore D. Martin, Deputy Commanding General/Chief of Staff, U.S. Army Training and Doctrine Command, Fort Eustis, VA.

31. Mr. Phillip E. Mcghee, Deputy Chief of Staff for Resource Management, G-8, U.S. Army Forces Command, Fort Bragg, NC.

32. HON James E. McPherson, General Counsel, Office of the General Counsel, Washington, DC.

33. Ms. Kathleen S. Miller, Assistant Deputy Chief of Staff for Operations, Office of the Deputy Chief of Staff, G-3/5/7, Washington, DC.

34. Mr. William F. Moore, Assistant Deputy Chief of Staff, G-4, Office of the Deputy Chief of Staff, G-4, Washington, DC.

35. Mr. Levator Norsworthy, Jr., Deputy General Counsel (Acquisition), Office of the General Counsel, Washington, DC.

36. LTG Paul A. Ostrowski, Military Deputy/Director, Acquisition and Contracting, Office of the Assistant Secretary of the Army (Acquisition, Logistics & Technology), Washington, DC.

37. Ms. Karen W. Pane, Director of Human Resources, U.S. Army Corps of Engineers, Washington, DC.

38. LTG Aundre F. Piggee, Deputy Chief of Staff, Office of the Deputy Chief of Staff, G-4, Washington, DC.

39. Mr. Ronald William Pontius, Deputy to Commanding General, Army Cyber Command, U.S. Army Cyber Command, Fort Belvoir, VA.

40. Mr. Michael T. Powers, Principal Deputy Assistant Secretary of the Army (Controls), Office of the Assistant Secretary of the Army (Financial Management & Comptroller), Washington, DC.

41. Mr. Jeffrey N. Rapp, Assistant Deputy Chief of Staff, G-2, Office of the Deputy Chief of Staff, G-2, Washington, DC.

42. Dr. Peter J. Reynolds, Senior Research Scientist (Physical Sciences), U.S. Army Research Laboratory, Durham, NC.

43. Ms. Anne L. Richards, The Auditor General, U.S. Army Audit Agency, Fort Belvoir, VA.

44. LTG Laura J. Richardson, Deputy Commanding General/Chief of Staff, U.S. Army Forces Command, Fort Bragg, NC.

45. Mr. J. Randall Robinson, Executive Deputy to the Commanding General, U.S. Army Installation Management Command, Fort Sam Houston, TX.

46. Dr. Paul D. Rogers, Director, U.S. Army Tank-Automotive Research, Development, and Engineering Center, Warren, MI.

47. Ms. Alexis Lasselle Ross, Deputy Assistant Secretary of the Army (Strategy and Acquisition Reform), Office of the Secretary of the Army, Washington, DC.

48. Dr. Thomas P. Russell, Deputy Assistant Secretary for Research and Technology/Chief Scientist, Office of the Assistant Secretary of the Army (Acquisition, Logistics & Technology), Washington, DC.

49. Mr. Bryan R. Samson, Deputy to the Commander, Surface Deployment and Distribution Command, U.S. Army Materiel Command, Scott Air Force Base, IL.

50. Mr. Robert J. Sander, Principal Deputy General Counsel, Office of the General Counsel, Washington, DC.

51. LTG Thomas C. Seamands, Deputy Chief of Staff, Office of the Deputy Chief of Staff, G-1, Washington, DC.

52. LTG Todd T. Semonite, Chief of Engineers/Commanding General, U.S. Army Corps of Engineers, Washington, DC.

53. Ms. Tanya M. Skeen, Executive Director, Rapid Capabilities Office, Office of the Assistant Secretary of the Army (Acquisition, Logistics & Technology), Washington, DC.

54. Ms. Cherie A. Smith, Program Executive Officer, Enterprise Information Systems, Office of the Secretary of the Army, Washington, DC.

55. Mr. Robin P. Swan, Deputy Director, Office of Business Transformation, Office of the Secretary of the Army, Washington, DC.

56. Dr. Mark B. Tischler, Senior Research Scientist (Rotorcraft Flight Dynamics and Control), U.S. Army Aviation And Missile Command, Moffett Field, CA.

57. MG Kirk F. Vollmecke, Program Executive Officer, Intelligence, Electronic Warfare, and Sensors, Office of the Secretary of the Army, Washington, DC.

58. Mr. Roy A. Wallace, Assistant Deputy Chief of Staff, Office of the Deputy Chief of Staff, G-1, Washington, DC.

59. HON Casey Wardynski, Jr., Assistant Secretary of the Army (Manpower and Reserve Affairs), Office of the Assistant Secretary of the Army (Manpower and Reserve Affairs), Washington, DC.

60. MG Michael C. Wehr, Deputy Chief of Engineers/Deputy Commanding General, U.S. Army Corps of Engineers, Washington, DC.

61. LTG Eric J. Wesley, Deputy Commanding General, Futures/Director, Army Capabilities Integration Center, U.S. Army Training and Doctrine Command, Fort Eustis, VA.

62. Dr. Bruce J. West, Senior Research Scientist (Mathematical Sciences), U.S. Army Research Laboratory, Durham, NC.

63. Mr. Jeffrey S. White, Principal Deputy Assistant Secretary of the Army (Acquisitions, Logistics & Technology), Office of the Assistant Secretary of the Army (Acquisition, Logistics & Technology), Washington, DC.

64. Mr. Marshall M. Williams, Principal Deputy Assistant Secretary of the Army (Manpower & Reserve Affairs), Office of the Assistant Secretary of the Army (Manpower & Reserve Affairs), Washington, DC.

65. Mr. John S. Willison, Deputy to the Commanding General, U.S. Army Reseearch Development and Engineering Command, U.S. Army Materiel Command, Redstone Arsenal, AL.

66. Mr. Max R. Wyche, Deputy Chief of Staff for Personnel, U.S. Army Materiel Command, Redstone Arsenal, AL.

Brenda S. Bowen,
Army Federal Register Liaison Officer.

[FR Doc. 2018-23806 Filed 10-30-18; 8:45 am]

BILLING CODE 5001-03-P